DEPARTMENT OF HEALTH AND HUMAN SERVICES

Centers for Disease Control and Prevention

Agency for Toxic Substances and Disease Registry

[Program Announcement 03087]

Polychlorinated Biphenyls Exposure and Adverse Health Effects in Anniston, Alabama; Notice of Availability of Funds; Amendment

A notice announcing the availability of Fiscal Year 2003 funds for a cooperative agreement program to support public health conferences was published in the Federal Register dated May 29, 2003, Volume 68, Number 103, pages 32050-32053. The notice is amended as follows:

Page 32050, first column, directly following the program announcement title, remove Application Deadline: June 30, 2003, and replace with Application Deadline: July 15, 2003.

Page 32052, second column, under the heading of Submission Date, Time, and Address, remove the sentence “The application must be received by 4 p.m. eastern time June 30, 2003”, and replace with the sentence “The application must be received by 4 p.m. eastern time July 15, 2003.”

Dated: June 3, 2003.
Sandra R. Manning,
Director, Procurement and Grants Office, Centers for Disease Control and Prevention.

[FR Doc. 03-14387 Filed 6-6-03; 8:45 am]

BILLING CODE 4163-18-P